DEPARTMENT OF LABOR

Employment and Training Administration

[TA-W-52,547]

Cooper-Atkins Corp., Middlefield, CT; Notice of Termination of Investigation

Pursuant to section 221 of the Trade Act of 1974, an investigation was initiated on August 13, 2003, in response to a worker petition which was filed by a company official on behalf of workers at Cooper-Atkins Corporation, Middlefield, Connecticut (TA-W-52,547).

The petitioner has requested that the petition be withdrawn. Consequently, further investigation in this case would serve no purpose, and the investigation has been terminated.

Signed in Washington, DC, this 26th day of August, 2003.
Linda G. Poole,
Certifying Officer, Division of Trade Adjustment Assistance.

[FR Doc. 03-24724 Filed 9-29-03; 8:45 am]

BILLING CODE 4510-30-P